DEPARTMENT OF DEFENSE

Department of the Air Force

[Docket ID: USAF-2024-HQ-0006]

Submission for OMB Review; Comment Request

AGENCY: Department of the Air Force, Department of Defense (DoD).

ACTION: 30-Day information collection notice.

SUMMARY: The DoD has submitted to the Office of Management and Budget (OMB) for clearance the following proposal for collection of information under the provisions of the Paperwork Reduction Act.

DATES: Consideration will be given to all comments received by January 15, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Air Force Family Integrated Results & Statistical Tracking (AFFIRST); OMB Control Number 0701-0070.

Type of Request: Extension.

Number of Respondents: 9,375.

Responses per Respondent: 4.

Annual Responses: 37,500.

Average Burden per Response: 15 minutes.

Annual Burden Hours: 9,375.

Needs and Uses: Information collection in the Air Force Family Integrated Results & Statistical Tracking (AFFIRST) system is necessary to maintain a record of customer service data, determine the effectiveness of Military and Family Readiness Center (M&FRC) activities and services, and provide reports reflecting impact of services on mission and family readiness to leadership. The system is also used as a management tool for statistical analysis, tracking, reporting, evaluating program effectiveness, and conducting research. This information collection is authorized by 10 U.S.C. 9013, Secretary of the Air Force; Department of the Air Force Instruction 36-3009, Military and Family Readiness Centers; and E.O. 9397 (SSN), as amended.

The respondents for the collection are M&FRC customers, including military personnel and family members, DoD civilians, and individuals of the general public authorized to use Air Force M&FRCs. Customers verbally provide M&FRC staff the required information that is entered into AFFIRST. M&FRC staff can also obtain required customer information by searching the Defense Enrollment Eligibility Reporting Systems (DEERS) system for documentation of required information in the AFFIRST information collection system as required by DAFI 36-3009. The AFFIRST web-based, data gathering, service delivery management system was established to provide timely information about daily activities, outcome-based results, and resource utilization of Center services throughout the DAF. All Center staff members will utilize this system for data gathering, record keeping, and information management. Only M&FRC employees have user accounts and only they are authorized to enter customer demographic and service delivery data into the AFFIRST customer record. M&FRC customers do not have access to the system to enter their information directly.

Affected Public: Individuals or households.

Frequency: On occasion.

Respondent's Obligation: Voluntary.

DOD Clearance Officer: Mr. Reginald Lucas.

Dated: December 11, 2024.
Aaron T. Siegel,
Alternate OSD Federal Register Liaison Officer, Department of Defense.

[FR Doc. 2024-29589 Filed 12-13-24; 8:45 am]

BILLING CODE 6001-F-P